DEPARTMENT OF COMMERCE

National Oceanic and Atmospheric Administration

NOAA Is Hosting a Series of Informational Webinars for Individuals and Organizations To Learn About the Proposed NOAA Climate Service

AGENCY: Office of Oceanic and Atmospheric Research, National Oceanic and Atmospheric Administration (NOAA), Commerce.

ACTION: Notice of public webinar meetings.

SUMMARY: On February 8, 2010, the Department of Commerce and the National Oceanic and Atmospheric Administration (NOAA) announced their intent to establish a new NOAA Climate Service. The proposed reorganization of existing agency assets is intended to help NOAA better work with our partners to respond to the growing demands for climate information from the public, business, industry, and decision makers. NOAA is hosting a series of informational webinars for individuals and organizations to learn about the proposed NOAA Climate Service and to provide an opportunity for to answer questions, and obtain feedback. Each webinar is targeted to a specific sector, and will begin with a presentation from Tom Karl, Director, NOAA National Climatic Data Center, and Transitional Director, NOAA Climate service, and will be followed by a question and answer session.

DATES: The webinar meeting dates are:

1. March 25, 2010, 2:30 p.m. to 4 p.m. EST, for non-governmental and non-profit organizations.

2. April 1, 2010, 2:30 p.m. to 4 p.m. EST, for the academic research community.

3. April 12, 2010, 1 p.m. to 2:30 p.m. EST, for state and local government officials.

4. April 13, 2010, 1 p.m. to 2:30 p.m. EST, for the corporate and business community.

For specific instructions about registering for each webinar, please visit http://www.noaa.gov/climateresources/meetings. Additional information about the announcement to create a new NOAA Climate Service, including questions and answers can be found at http://www.noaa.gov/climate.

FOR FURTHER INFORMATION CONTACT: Brady Phillips, NOAA Office of Communications and External Affairs, 14th and Constitution Avenue, NW., Washington, DC 20230. (Phone: 202-482-2365, Fax: 202-482-3154, E-mail: brady.phillips@noaa.gov); or visit http://www.noaa.gov/climateresources/meetings.

Dated: March 16, 2010.
Mark E. Brown,
Chief Financial Officer/Chief Administrative Officer, Office of Oceanic and Atmospheric Research, National Oceanic and Atmospheric Administration.

[FR Doc. 2010-6085 Filed 3-18-10; 8:45 am]

BILLING CODE 3510-KB-P